COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities and deletes services from the Procurement List previously furnished by such agencies.

DATES: Effective Date: 8/2/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 4/30/2010 (75 FR 22744-22745) and 5/7/2010 (75 FR 25210-25211), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

NSN: 8415-00-NIB-0810—Glove, Vinyl, Industrial/Non-Medical Grade, 100 Gloves/Box, Small.

NSN: 8415-00-NIB-0811—Glove, Vinyl, Industrial/Non-Medical Grade, 100 Gloves/Box, Medium.

NSN: 8415-00-NIB-0812—Glove, Vinyl, Industrial/Non-Medical Grade, 100 Gloves/Box, Large.

NSN: 8415-00-NIB-0813—Glove, Vinyl, Industrial/Non-Medical Grade, 100 Gloves/Box, XLarge.

NPA: Bosma Industries for the Blind, Inc., Indianapolis, IN.

Contracting Activity: Veterans Affairs, Department of, NAC, Hines, IL.

Coverage: C—list for 100% of the requirements for the Department of Veterans Affairs, NAC, Hines, Il.

NSN: 8105-01-284-2923—Bag, Waste Receptacle.

NPA: Portland Habilitation Center, Inc., Portland, OR.

Contracting Activity: Federal Acquisition Service, GSA/FSS OFC SUP CTR—Paper Products, New York, NY.

Coverage: B—List for the Broad Government Requirement as aggregated by the General Services Administration.

NSN: 7510-01-504-8940—Tape, Correction—4 Pk.

NPA: Industries for the Blind, Inc., West Allis, WI.

Contracting Activity: Federal Acquisition Service, GSA/FSS OFC SUP CTR—Paper Products, New York, NY.

Coverage: A—List for the Total Government Requirement as aggregated by the General Services Administration.

NSN: 8415-01-579-9276—ACU Sun Hat—Multi Cam.

NSN: 8415-01-579-9272—ACU Sun Hat—Multi Cam.

NSN: 8415-01-579-9267—ACU Sun Hat—Multi Cam.

NSN: 8415-01-579-9260—ACU Sun Hat—Multi Cam.

NSN: 8415-01-579-9219—ACU Sun Hat—Multi Cam.

NSN: 8415-01-579-9210—ACU Sun Hat—Multi Cam.

NSN: 8415-01-579-9197—ACU Sun Hat—Multi Cam.

NSN: 8415-01-579-9189—ACU Sun Hat—Multi Cam.

NSN: 8415-01-579-9182—ACU Sun Hat—Multi Cam.

NSN: 8415-01-579-9175—ACU Sun Hat—Multi Cam.

NSN: 8415-01-579-9172—ACU Sun Hat—Multi Cam.

NSN: 8415-01-579-9163—ACU Sun Hat—Multi Cam.

NSN: 8415-01-579-9152—ACU Sun Hat—Multi Cam.

NSN: 8415-01-579-9147—ACU Sun Hat—Multi Cam.

NSN: 8415-01-519-8682—ACU Sun Hat—Universal.

NSN: 8415-01-519-8681—ACU Sun Hat—Universal.

NSN: 8415-01-519-8680—ACU Sun Hat—Universal.

NSN: 8415-01-519-8678—ACU Sun Hat- Universal.

NSN: 8415-01-519-8684—ACU Sun Hat—Universal.

NSN: 8415-01-519-8687—ACU Sun Hat—Universal.

NSN: 8415-01-519-8696—ACU Sun Hat—Universal.

NSN: 8415-01-519-8698—ACU Sun Hat—Universal.

NSN: 8415-01-519-8699—ACU Sun Hat—Universal.

NSN: 8415-01-519-8702—ACU Sun Hat—Universal.

NSN: 8415-01-519-8704—ACU Sun Hat—Universal.

NSN: 8415-01-519-8705—ACU Sun Hat—Universal.

NSN: 8415-01-519-8708—ACU Sun Hat—Universal.

NSN: 8415-01-519-8706—ACU Sun Hat—Universal.

NPA: Southeastern Kentucky Rehabilitation Industries, Inc., Corbin, KY

Contracting Activity: Dept of the Army, XR W2DF RDECOM ACQ CTR NATICK, Natick, MA.

Coverage: C—list for 100% of the requirements for initial fielding for the U.S. Army, as aggregated by the Department of the Army Research, Development, and Engineering Command.

NSN: 7510-00-272-9804—Envelope, Transparent.

NPA: Bestwork Industries for the Blind, Inc., Runnemede, NJ.

Contracting Activity: Federal Acquisition Service, GSA/FSS OFC SUP CTR—Paper Products, New York, NY.

Coverage: B—List for the Broad Government Requirement as aggregated by the General Services Administration.

Service

Service Type/Location: Janitorial, Customs and Border Protection, B.P. Sector Maintenance, 398 E. Aurora Drive, El Centro, CA.

NPA: ARC-Imperial Valley, El Centro, CA.

Contracting Activity: Bureau of Customs and Border Protection, Office of Procurement, Washington, DC.

Deletions

On 5/7/2010 (75 FR 25210-25211), the Committee for Purchase From People Who Are Blind or Severely Disabled published notice of proposed deletions from the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service/Location: Medical Transcription, Veterans Affairs Medical Center, 7305 N. Military Trail, West Palm Beach, FL.

NPA: Gulfstream Goodwill Industries, Inc., West Palm Beach, FL.

Contracting Activity: Department of Veterans Affairs, Nac, Hines, IL.

Service Type/Location: Janitorial/Custodial, Fort McPherson: U.S. Army Health Clinic, Buildings 100, 101, 105, 162, 163, 165, 170, 170A and 170B, Fort McPherson, GA.

NPA: WORKTEC, Jonesboro, GA.

Contracting Activity: Dept of the Army, XR W40M NATL REGION CONTRACT OFC, Washington, DC.

Barry S. Lineback,
Director, Business Operations.

[FR Doc. 2010-16103 Filed 7-1-10; 8:45 am]

BILLING CODE 6353-01-P